FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 5, 2016.

A. Federal Reserve Bank of St. Louis (David L. Hubbard, Senior Manager) P.O. Box 442, St. Louis, Missouri 63166-2034. Comments can also be sent electronically to Comments.applications@stls.frb.org:

1. Pat McInnis Cooper Marital Trust, John A. Cooper III as trustee, individually and as part of a family control group that also includes the Pat McInnis Cooper Family Trust, John A. Cooper III as trustee, the Pat McInnis Cooper GS Trust, John A. Cooper III as trustee, and the John A. Cooper Jr. Family Trust, John A. Cooper III as trustee, all of Rogers, Arkansas; to retain control of voting shares and for the family control group to retain control voting shares of FNBC Bancorp, Inc., Ash Flat, Arkansas, and thereby control shares of FNBC Bank, Ash Flat, Arkansas.

Board of Governors of the Federal Reserve System, November 17, 2016.
Yao-Chin Chao,
Assistant Secretary of the Board.

[FR Doc. 2016-28082 Filed 11-21-16; 8:45 am]

BILLING CODE 6210-01-P